DEPARTMENT OF DEFENSE

Department of the Navy

Notice of Intent To Grant Partially Exclusive License; Unique Technologies, Inc.

AGENCY: Department of the Navy, DOD.

ACTION: Notice.

SUMMARY: The Department of the Navy gives notice of its intent to grant Unique Technologies, Inc., a revocable, nonassignable, partially exclusive license, with exclusive fields of use in commercial and residential bactericide and fungicide, commercial and residential decontamination, fuel additive, post harvest preservation, pre-emergent, and frost mediation, in the United States to practice the Government-owned inventions, U.S. Patent Application Serial Number 10/283,352 entitled “Nitrate-Hydrogen Peroxide Chemical Adducts and Use Thereof,” and U.S. Patent Number 6,165,295 entitled “Gas-Generating Liquid Compositions (PERSOL 1).”

DATES: Anyone wishing to object to the grant of this license has fifteen (15) days from the date of this notice to file written objections along with supporting evidence, if any.

ADDRESSES: Written objections are to be filed with Indian Head Division, Naval Surface Warfare Center, Code OC4, 101 Strauss Avenue, Indian Head, MD 20640-5035.

FOR FURTHER INFORMATION CONTACT: Dr. J. Scott Deiter, Head, Technology Transfer Office, Naval Surface Warfare Center Indian Head Division, Code 05T, 101 Strauss Avenue, Indian Head, MD 20640-5035, telephone (301) 744-6111.

Dated: August 15, 2003.
E.F. McDonnell,
Major, U.S. Marine Corps, Federal Register Liaison Officer.

[FR Doc. 03-22033 Filed 8-27-03; 8:45 am]

BILLING CODE 3810-FF-P